DEPARTMENT OF THE INTERIOR

Bureau of Land Management

[OR-957-6333-PH: HAG08-0115]

Filing of Plats of Survey: Oregon/Washington

AGENCY: U.S. Department of the Interior, Bureau of Land Management.

ACTION: Notice.

SUMMARY: The plats of survey of the following described lands were officially filed in the Bureau of Land Management Oregon/Washington State Office, Portland, Oregon, on March 21, 2008.

Willamette Meridian

Washington

T. 37 N., R. 17 E., accepted January 30, 2008.

T. 38 N., R. 17 E., accepted January 30, 2008.

T. 34 N., R. 2 E., accepted February 29, 2008.

Oregon

T.29 S., Rs. 7 & 8 W., accepted February 8, 2008.

T. 23 S., R. 4 W., accepted February 8, 2008.

T. 32 S., R. 6 W., accepted February 29, 2008.

The plats of survey of the following described lands were officially filed in the Bureau of Land Management Oregon/Washington State Office, Portland, Oregon, on April 24, 2008.

Willamette Meridian

Washington

T. 21 N., R. 4 W., accepted March 21, 2008.

Oregon

T. 8 N., R. 10 W., accepted March 21, 2008.

T. 7 & 8 N., R. 10 W., accepted March 21, 2008.

T. 2 S., R. 6 W., accepted March 28, 2008.

T. 6 S., R. 2 E., accepted March 28, 2008.

T. 6 S., R. 4 E., accepted March 28, 2008.

T. 10 S., R. 2 E., accepted March 28, 2008.

T. 14 S., R. 7 W., accepted March 28, 2008.

T. 37 S., R. 1 W., accepted March 28, 2008.

T. 38 S., R. 2 E., accepted March 28, 2008.

T. 38 S., R. 5 E., accepted March 28, 2008.

T. 9 S., R. 7 W., accepted March 31, 2008.

The plats of survey of the following described lands were officially filed in the Bureau of Land Management Oregon/Washington State Office, Portland, Oregon, on May 20, 2008.

Willamette Meridian

Washington

T. 36 N., R. 25 E., accepted May 5, 2008.

Oregon

T. 17 S., R. 7 W., accepted April 4, 2008.

T. 15 S., R. 6 W., accepted April 4, 2008.

T. 16 S., R. 1 W., accepted April 4, 2008.

T. 16 S., R. 2 W., accepted April 4, 2008.

T. 16 S., R. 7 W., accepted April 4, 2008.

T. 29 S., R. 8 W., accepted April 7, 2008.

T. 16 S., R. 1 W., accepted April 17, 2008.

T. 33 S., R. 10 W., accepted May 5, 2008.

A copy of the plats may be obtained from the Land Office at the Oregon/Washington State Office, Bureau of Land Management, 333 SW., 1st Avenue, Portland, Oregon 97204, upon required payment. A person or party who wishes to protest against a survey must file a notice that they wish to protest (at the above address) with the Oregon/Washington State Director, Bureau of Land Management, Portland, Oregon.

FOR FURTHER INFORMATION CONTACT: Chief, Branch of Geographic Sciences, Bureau of Land Management, (333 S.W. 1st Avenue) P.O. Box 2965, Portland, Oregon 97208.

Dated: May 29, 2008.
Fred O'Ferrall,
Branch of Lands and Minerals Resources.

[FR Doc. E8-13105 Filed 6-10-08; 8:45 am]

BILLING CODE 4310-33-P